DEPARTMENT OF COMMERCE

National Oceanic and Atmospheric Administration

50 CFR Part 622

[Docket No. 000616183-0278-02; I.D. 053000E]

RIN 0648-AN35

Fisheries of the Caribbean, Gulf of Mexico, and South Atlantic; Snapper-Grouper Fishery of the South Atlantic; Special Management Zones

AGENCY: National Marine Fisheries Service (NMFS), National Oceanic and Atmospheric Administration (NOAA), Commerce.

ACTION: Final rule.

SUMMARY: In accordance with the framework procedure of the Fishery Management Plan for the Snapper-Grouper Fishery of the South Atlantic Region (FMP), NMFS issues this final rule to establish 12 new special management zones (SMZs) at the sites of artificial reefs (ARs) in the exclusive economic zone (EEZ) off Georgia; to revise the boundaries of the 7 existing SMZs that are in the EEZ off Georgia; to restrict fishing gear in the new and revised SMZs to handline, rod and reel, and spearfishing gear, including powerheads; and within these SMZs, to limit the harvest and possession of South Atlantic snapper-grouper taken by powerheads to the applicable bag limits. This rule also establishes a 30-day deadline for resolving deficiencies related to a permit application and a 60-day deadline for correcting deficiencies regarding automatic renewals of permits. The intended effects of this rule are to promote orderly use of the fishery resources on and around the ARs and SMZs, to maintain the socioeconomic benefits of the ARs and SMZs to the maximum extent practicable, and to improve the procedure for issuance of permits.

DATES: This final rule is effective November 15, 2000.

ADDRESSES: Comments regarding the collection-of-information requirements contained in this rule should be sent to Roy Crabtree, Southeast Regional Office, NMFS, 9721 Executive Center Drive N., St. Petersburg, FL 33702, and to the Office of Information and Regulatory Affairs, Office of Management and Budget (OMB), Washington, DC 20503 (Attention: NOAA Desk Officer).

Comments on any ambiguity or unnecessary complexity arising from the language used in this rule should be directed to Rod Dalton, Southeast Regional Office, NMFS, at the above address.

FOR FURTHER INFORMATION CONTACT: Dr. Peter J. Eldridge, telephone: 727-570-5305, fax: 727-570-5583, e-mail Peter.Eldridge@noaa.gov.

SUPPLEMENTARY INFORMATION: The fisheries for snapper-grouper species in the EEZ off the southern Atlantic states are regulated pursuant to the FMP. The South Atlantic Fishery Management Council (Council) prepared, and NMFS approved, the FMP under the authority of the Magnuson-Stevens Fishery Conservation and Management Act (Magnuson-Stevens Act). Regulations implementing the FMP appear at 50 CFR part 622.

In accordance with the framework procedure of the FMP, the Council recommended, and NMFS published, a proposed rule (65 FR 41041, July 3, 2000) to establish 12 new SMZs at the sites of ARs in the EEZ off Georgia; to revise the boundaries of the 7 existing SMZs that are in the EEZ off Georgia; to restrict fishing gear in the new and revised SMZs to handline, rod-and-reel, and spearfishing gear, including powerheads; and within these SMZs, to limit the harvest and possession of South Atlantic snapper-grouper taken by powerheads to the applicable bag limits. The proposed rule described the need and rationale for these measures.

Comments and Responses

NMFS received two public comments on the proposed rule.

Comment 1: One commenter supported all of the proposed measures.

Response: NMFS agrees.

Comment 2: One commenter supported the proposed measures but wanted to exclude the use of powerheads on SMZs. He wanted divers to have powerheads for protection while on SMZs, but he did not want them to be able to fish with powerheads because he believed that they would take too many fish.

Response: Pursuant to the Magnuson-Stevens Act, NMFS can only approve, partially approve, or disapprove a management measure proposed by a Fishery Management Council; NMFS cannot substitute different management measures. In this case, the Council recommended, and NMFS approved, imposing the bag limit on the use of powerhead gear in the SMZs to ensure that divers with powerhead gear would not obtain a disproportionate share of the catch.

Changes From the Proposed Rule

In § 622.35(e)(1)(xiv), the northern boundary coordinate for Artificial Reef—G has been corrected to read 31°00.0' N. lat..

In the proposed rule (65 FR 41041, July 3, 2000), the preamble stated that fishing in the 12 new SMZs and the 7 revised SMZs off Georgia would be restricted to rod and reel and spearfishing gear, including powerheads. The codified text of the proposed rule did not establish this gear restriction for the 12 new SMZs. Further, the Council did not intend to exclude the use of handline gear in the 12 new SMZs or in the 7 revised SMZs. Therefore, this final rule revises § 622.35(e)(2) to restrict allowable fishing gear in the 12 new SMZs and in the 7 revised SMZs to handline, rod and reel, and spearfishing gear, including powerheads. In addition, to make the varying fishing restrictions within different SMZs more understandable to the reader, § 622.35(e)(2) has been revised to present the applicable information in a table.

Classification

This final rule has been determined to be not significant for purposes of Executive Order 12866.

Notwithstanding any other provision of law, no person is required to respond to, nor shall a person be subject to a penalty for failure to comply with, a collection-of-information subject to the requirements of the Paperwork Reduction Act (PRA) unless that collection of information displays a currently valid OMB control number.

This final rule makes minor revisions to an existing collection-of-information requirement subject to review and approval by OMB under Control Number 0648-0205. This requirement has been approved by OMB under Control Number 0648-0205. Public reporting burden for submitting permit applications is estimated to average 20 minutes per response, including the time for reviewing instructions, searching existing data sources, gathering and maintaining the data needed, and completing and reviewing the collection of information. Send comments regarding this burden estimate, or any other aspect of this data collection, including suggestions for reducing the burden, to NMFS and OMB (see ADDRESSES).

The Chief Counsel for Regulation of the Department of Commerce certified to the Chief Counsel for Advocacy of the Small Business Administration when this rule was proposed that it would not have a significant economic impact on a substantial number of small entities. No comments were received regarding this certification. As a result, a regulatory flexibility analysis was not prepared.

The President has directed Federal agencies to use plain language in their communications with the public, including regulations. To comply with this directive, we seek public comment on any ambiguity or unnecessary complexity arising from the language used in this rule. Such comments should be sent to the Southeast Regional Office (see ADDRESSES).

List of Subjects in 50 CFR Part 622

Fisheries, Fishing, Puerto Rico, Reporting and recordkeeping requirements, Virgin Islands.

Dated: October 5, 2000.
William T. Hogarth,
Deputy Assistant Administrator for Fisheries, National Marine Fisheries Service.

For the reasons set out in the preamble, 50 CFR part 622 is amended as follows:

PART 622—FISHERIES OF THE CARIBBEAN, GULF, AND SOUTH ATLANTIC

1. The authority citation for part 622 continues to read as follows:

Authority: 16 U.S.C. 1801 et seq.

2. In § 622.4, paragraph (h) is revised to read as follows:

§ 622.4 Permits and fees.

* * * * *

(h) Renewal. Although a permit, license, or endorsement required by this section is issued on an annual basis, an application for its renewal is required only every 2 years. In the interim years, renewal is automatic (without application) for a vessel owner or dealer who has met the specific requirements for the requested permit, license, or endorsement; who has submitted all reports required under the Magnuson-Stevens Act; and who is not subject to a sanction or denial under paragraph (j) of this section. An owner or dealer whose permit, license, or endorsement is expiring will be mailed a notification by the RA approximately 2 months prior to its expiration. That notification will advise the status of the renewal. That is, the notification will advise that the renewal will be issued without further action by the owner or dealer (automatic renewal); that the permit, license, or endorsement is ineligible for automatic renewal; or that a new application is required.

(1) If eligible for automatic renewal. If the RA's notification indicates that the owner's or dealer's permit, license, or endorsement is eligible for automatic renewal, the RA will mail the automatically renewed permit, license, or endorsement approximately 1 month prior to expiration of the old permit, license, or endorsement.

(2) If ineligible for automatic renewal. If the RA's notification indicates that the owner's or dealer's permit, license, or endorsement is ineligible for automatic renewal, the notification will specify the reasons and will provide an opportunity for correction of any deficiencies. If the owner or dealer does not correct such deficiencies within 60 days after the date of the RA's notification, the renewal will be considered abandoned. A permit, license, or endorsement that is not renewed within the applicable deadline will not be reissued.

(3) If new application is required. If the RA's notification indicates that a new application is required, the notification will include a preprinted renewal application. If the RA receives an incomplete application, the RA will notify the applicant of the deficiency. If the applicant fails to correct the deficiency within 30 days of the date of the RA's letter of notification, the application will be considered abandoned. A permit, license, or endorsement that is not renewed within the applicable deadline will not be reissued.

(4) If notification is not received. A vessel owner or dealer who does not receive a notification from the RA regarding status of renewal of a permit, license, or endorsement by 45 days prior to expiration of the current permit must contact the RA.

* * * * *

3. In § 622.35, paragraphs (e)(1)(xii) through (e)(1)(xviii) are revised, paragraphs (e)(1)(xl) through (e)(1)(li) are added, and paragraph(e)(2) is revised to read as follows:

§ 622.35 South Atlantic EEZ seasonal and/or area closures.

* * * * *

(e) * * *

(1) * * *

(xii) Artificial Reef—A is bounded on the north by 30°57.4' N. lat.; on the south by 30°55.4' N. lat.; on the east by 81°13.9' W. long.; and on the west by 81°16.3' W. long.

(xiii) Artificial Reef—C is bounded on the north by 30°52.0' N. lat.; on the south by 30°50.0' N. lat.; on the east by 81°08.5' W. long.; and on the west by 81°10.9' W. long.

(xiv) Artificial Reef— G is bounded on the north by 31°00.0' N. lat.; on the south by 30°58.0' N. lat.; on the east by 80°56.8' W. long.; and on the west by 80°59.2' W. long.

(xv) Artificial Reef—F is bounded on the north by 31°06.8' N. lat.; on the south by 31°04.8' N. lat.; on the east by 81°10.5' W. long.; and on the west by 81°13.4' W. long.

(xvi) Artificial Reef—J is bounded on the north by 31°36.7' N. lat.; on the south by 31°34.7' N. lat.; on the east by 80°47.3' W. long.; and on the west by 80°50.1' W. long.

(xvii) Artificial Reef— L is bounded on the north by 31°46.0' N. lat.; on the south by 31°44.0' N. lat.; on the east by 80°34.7' W. long.; and on the west by 80°37.1' W. long.

(xviii) Artificial Reef— KC is bounded on the north by 31°51.2' N. lat.; on the south by 31°49.2' N. lat.; on the east by 80°45.3' W. long.; and on the west by 80°47.7' W. long.

* * * * *

(xl) Artificial Reef— ALT is bounded on the north by 31°18.6' N. lat.; on the south by 31°16.6' N. lat.; on the east by 81°07.0' W. long.; and on the west by 81°09.4' W. long.

(xli) Artificial Reef— CAT is bounded on the north by 31°40.2' N. lat.; on the south by 31°38.2' N. lat.; on the east by 80°56.2' W. long.; and on the west by 80°58.6' W. long.

(xlii) Artificial Reef— CCA is bounded on the north by 31°43.7' N. lat.; on the south by 31°41.7' N. lat.; on the east by 80°40.0' W. long.; and on the west by 80°42.3' W. long.

(xliii) Artificial Reef— DRH is bounded on the north by 31°18.0' N. lat.; on the south by 31°16.0' N. lat.; on the east by 80°56.6' W. long.; and on the west by 80°59.0' W. long.

(xliv) Artificial Reef— DUA is bounded on the north by 31°47.8' N. lat.; on the south by 31°45.8' N. lat.; on the east by 80°52.1' W. long.; and on the west by 80°54.5' W. long.

(xlv) Artificial Reef— DW is bounded on the north by 31°22.8' N. lat.; on the south by 31°20.3' N. lat.; on the east by 79°49.8' W. long.; and on the west by 79°51.1' W. long.

(xlvi) Artificial Reef— KBY is bounded on the north by 30°48.6' N. lat.; on the south by 30°46.6' N. lat.; on the east by 81°15.0' W. long.; and on the west by 81°17.4' W. long.

(xlvii) Artificial Reef— KTK is bounded on the north by 31°31.3' N. lat.; on the south by 31°29.3' N. lat.; on the east by 80°59.1' W. long.; and on the west by 81°01.5' W. long.

(xlviii) Artificial Reef— MRY is bounded on the north by 30°47.5' N. lat.; on the south by 30°45.5' N. lat.; on the east by 81°05.5' W. long.; and on the west by 81°07.8' W. long.

(xlix) Artificial Reef— SAV is bounded on the north by 31°55.4' N. lat.; on the south by 31°53.4' N. lat.; on the east by 80°45.2' W. long.; and on the west by 80°47.6' W. long.

(l) Artificial Reef— SFC is bounded on the north by 31°00.8' N. lat.; on the south by 30°59.8' N. lat.; on the east by 81°02.2' W. long.; and on the west by 81°03.4' W. long.

(li) Artificial Reef— WW is bounded on the north by 31°43.5' N. lat.; on the south by 31°42.2' N. lat.; on the east by 79°57.7' W. long.; and on the west by 79°59.3' W. long.

(2) To determine what restrictions apply in the SMZs listed in § 622.35(e)(1), follow this table:

IN SMZs SPECIFIED IN THE FOLLOWING PARAGRAPHS OF § 622.35 | THESE RESTRICTIONS APPLY
(e)(1)(i) through (x), (e)(1)(xx), and (e)(1)(xxii) through (xxxix) | Use of a powerhead to take South Atlantic snapper-grouper is prohibited. Possession of a powerhead and a mutilated South Atlantic snapper-grouper in, or after having fished in, one of these SMZs constitutes prima facie evidence that such fish was taken with a powerhead in the SMZ.
(e)(1)(i) through (xviii) and (e)(1)(xxii) through (li) | Fishing may only be conducted with handline, rod and reel, and spearfishing gear.
(e)(1)(i) through (li) | Use of a sea bass pot or bottom longline is prohibited.
(e)(1)(xii) through (xviii) and (e)(1)(xl) through (li) | Possession of South Atlantic snapper-grouper taken with a powerhead is limited to the bag limits specified in § 622.39(d)(1).
(e)(1)(xix) and (e)(1)(xx) | A hydraulic or electric reel that is permanently affixed to the vessel is prohibited when fishing for South Atlantic snapper-grouper.
(e)(1)(xix) and (e)(1)(xxi) | Use of spearfishing gear is prohibited.

* * * * *

4. In § 622.39, paragraph (a)(4) is added to read as follows:

§ 622.39 Bag and possession limits.

(a) * * *

(4) Paragraph (a)(1) of this section notwithstanding, a person aboard a vessel for which a commercial permit for South Atlantic snapper-grouper has been issued must comply with the bag limits specified in paragraph (d)(1) of this section for South Atlantic snapper-grouper taken with a powerhead, regardless of where taken, when such snapper-grouper are possessed in an SMZ specified in § 622.35(e)(1)(xii) through (e)(1)(xviii) or (e)(1)(xl) through (e)(1)(li).

* * * * *

§§ 622.17 and 622.41 [Amended]

5. In addition to the amendments set forth above, in 50 CFR part 622, remove the telephone number, “813-570-5344”, and add in its place “727-570-5344” in the following places:

(a) Section 622.17(b)(1) introductory text; and

(b) Section 622.41(a)(4) introductory text.

[FR Doc. 00-26359 Filed 10-13-00; 8:45 am]

BILLING CODE: 3510-22-S